DEPARTMENT OF TRANSPORTATION

Federal Aviation Administration

14 CFR Part 39

[Docket No. FAA-2023-1880; Project Identifier MCAI-2023-00587-T; Amendment 39-22690; AD 2024-04-11]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for certain Airbus Canada Limited Partnership Model BD-500-1A10 and BD-500-1A11 airplanes. This AD was prompted by damage found on two power-feeder harnesses on three airplanes due to chafing with wheel bins. An investigation found that the power-feeder harnesses were not adequately supported to protect from chafing due to vibration. This AD requires modifying the variable frequency generator (VFG) power-feeder harness routing, as specified in a Transport Canada AD, which is incorporated by reference. The FAA is issuing this AD to address the unsafe condition on these products.

DATES: This AD is effective May 1, 2024.

The Director of the Federal Register approved the incorporation by reference of a certain publication listed in this AD as of May 1, 2024.

ADDRESSES:

AD Docket: You may examine the AD docket at regulations.gov under Docket No. FAA-2023-1880; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material incorporated by reference in this AD, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

• For service information incorporated by reference in this AD, contact Airbus Canada Limited Partnership, 13100 Henri-Fabre Boulevard, Mirabel, Québec, J7N 3C6, Canada; telephone 450-476-7676; email a220_crc@abc.airbus; website a220world.airbus.com.

• You may view this material at the FAA, Airworthiness Products Section, Operational Safety Branch, 2200 South 216th St., Des Moines, WA. For information on the availability of this material at the FAA, call 206-231-3195. It is also available in the AD docket at regulations.gov under Docket No. FAA-2023-1880.

FOR FURTHER INFORMATION CONTACT: William Reisenauer, Aviation Safety Engineer, FAA, 1600 Stewart Avenue, Suite 410, Westbury, NY 11590; phone: 516-228-7300; email: 9-avs-nyaco-cos@faa.gov.

SUPPLEMENTARY INFORMATION:

Background

The FAA issued a notice of proposed rulemaking (NPRM) to amend 14 CFR part 39 by adding an AD that would apply to certain Airbus Canada Limited Partnership Model BD-500-1A10 and BD-500-1A11 airplanes. The NPRM published in the Federal Register on September 14, 2023 (88 FR 63034). The NPRM was prompted by AD CF-2023-24, dated April 6, 2023, issued by Transport Canada, which is the aviation authority for Canada (Transport Canada AD CF-2023-24) (also referred to as the MCAI). The MCAI states that two VFG power-feeder harnesses were found damaged due to chafing with wheel bins during maintenance in service on three airplanes. An investigation found that the power-feeder harnesses were not adequately supported to protect from chafing due to vibration.

In the NPRM, the FAA proposed to require modifying the VFG power-feeder harness routing, as specified in Transport Canada AD CF-2023-24. The FAA is issuing this AD to prevent damage to VFG power-feeder harnesses from chafing due to vibration. The unsafe condition, if not addressed, could lead to a loss of generated power from both VFGs, or to a fire in the case of flammable fluid contact with arcing wires.

You may examine the MCAI in the AD docket at regulations.gov under Docket No. FAA-2023-1880.

Discussion of Final Airworthiness Directive

Comments

The FAA received comments from Delta Air Lines (DAL). The following presents the comments received on the NPRM and the FAA's response to each comment.

Request To Provide Grace Period

DAL requested the FAA to provide a 30- to 60-day grace period to allow adequate planning for completion of the modification at a maintenance station. DAL stated that some of its fleet of affected airplanes are already beyond the time allotted by Transport Canada AD CF-2023-24. After initiating the incorporation of the service bulletin, DAL discovered numerous issues and worked with Airbus to resolve those issues. (Some of those issues are discussed below.) As a result, DAL reports that it has been unable to complete the modification on its fleet, and, as those airplanes continue to accumulate flight cycles, many DAL airplanes would be grounded when the AD becomes effective if no grace period is allowed.

The FAR

A does not agree with the requested change. The manufacturer has established the compliance time through risk assessment analysis. Unilateral addition of compliance time increases the risk. However, the FAA will consider requests to approve an extension of the compliance time as an AMOC (alternative method of compliance) to address airplanes that have already reached the limit, if sufficient data are submitted to substantiate that the change would provide an acceptable level of safety. No change has been made to this AD in response to this request.

Request To Correct Part Identifying Information

DAL discovered the following discrepancies in the service information referenced in Transport Canada AD CF-2023-24 (Airbus Canada Limited Partnership Service Bulletin BD500-534101, Issue 007, dated October 2, 2020).

• Steps 3.7.4.1 and 3.7.4.2 specify installing and torquing screws with the incorrect item number (14). Figure 6 correctly shows this screw as item (18).

• Step 3.7.7 specifies installing harnesses with the correct part numbers CPYTG2039 and CPYTH2041. Step 3.7.7.1 incorrectly specifies installing harnesses with part numbers CPWTG2032 and CPWTH2034.

The FAA acknowledges these errors and has added paragraphs (h)(3) and (4) of this AD to specify the correct information.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

Transport Canada AD CF-2023-24 specifies procedures for modifying the VFG power-feeder harness routing, including a general visual inspection for damage at the intersection of the VFG power-feeder harnesses and the surface of the wheel bins, and corrective actions including obtaining and following repair instructions. This material is reasonably available because the interested parties have access to it through their normal course of business or by the means identified in the ADDRESSES section.

Costs of Compliance

The FAA estimates that this AD affects 16 airplanes of U.S. registry. The FAA estimates the following costs to comply with this AD:

Estimated Costs for Required Actions
Labor cost | Parts cost | Cost per product | Cost on U.S. operators
Up to 51 work-hours × $85 per hour = Up to $4,335 | Up to $3,538 | Up to $7,873 | Up to $125,968.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-04-11 Airbus Canada Limited Partnership (Type Certificate Previously Held by C Series Aircraft Limited Partnership (CSALP); Bombardier, Inc.): Amendment 39-22690; Docket No. FAA-2023-1880; Project Identifier MCAI-2023-00587-T.

(a) Effective Date

This airworthiness directive (AD) is effective May 1, 2024.

(b) Affected ADs

None.

(c) Applicability

This AD applies to Airbus Canada Limited Partnership Model BD-500-1A10 and BD-500-1A11 airplanes, certificated in any category, as identified in Transport Canada AD CF-2023-24, dated April 6, 2023 (Transport Canada AD CF-2023-24).

(d) Subject

Air Transport Association (ATA) of America Code 24, Electrical Power.

(e) Unsafe Condition

This AD was prompted by damage found on two variable frequency generator (VFG) power-feeder harnesses on three airplanes due to chafing with wheel bins. An investigation found that the power-feeder harnesses were not adequately supported to protect from chafing due to vibration. The FAA is issuing this AD to prevent damage to VFG power-feeder harnesses from chafing due to vibration. The unsafe condition, if not addressed, could lead to a loss of generated power from both VFGs, or to a fire in the case of flammable fluid contact with arcing wires.

(f) Compliance

Comply with this AD within the compliance times specified, unless already done.

(g) Requirements

Except as specified in paragraph (h) of this AD: Comply with all required actions and compliance times specified in, and in accordance with, Transport Canada AD CF-2023-24.

(h) Exceptions to Transport Canada AD CF-2023-24

(1) Where Transport Canada AD CF-2023-24 refers to its effective date, this AD requires using the effective date of this AD.

(2) Where Transport Canada AD CF-2023-24 refers to “hours air time,” this AD requires replacing those words with “flight hours.”

(3) Where the service information specified in Transport Canada AD CF-2023-24, in steps 3.7.4.1 and 3.7.4.2, specifies using “screws (14),” this AD requires replacing those words with “screws (18).”

(4) Where the service information specified in Transport Canada AD CF-2023-24, in step 3.7.7.1, specifies installing “harnesses CPWTG2032 and CPWTH2034,” this AD requires replacing those words with “harnesses CPYTG2039 and CPYTH2041.”

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Airbus Canada Limited Partnership's Transport Canada Design Approval Organization (DAO). If approved by the DAO, the approval must include the DAO-authorized signature.

(j) Additional Information

For more information about this AD, contact William Reisenauer, Aviation Safety Engineer, FAA, 1600 Stewart Avenue, Suite 410, Westbury, NY 11590; phone: 516-228-7300; email: 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Transport Canada AD CF-2023-24, dated April 6, 2023.

(ii) [Reserved]

(3) For Transport Canada AD CF-2023-24, contact Transport Canada National Aircraft Certification, 159 Cleopatra Drive, Nepean, Ontario K1A 0N5, Canada; telephone 888-663-3639; email TC.AirworthinessDirectives-Consignesdenavigabilite.TC@tc.gc.ca. You may find this Transport Canada AD on the Transport Canada website at tc.canada.ca/en/aviation.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on February 27, 2024.
Victor Wicklund,
Deputy Director, Compliance & Airworthiness Division, Aircraft Certification Service.

[FR Doc. 2024-06477 Filed 3-26-24; 8:45 am]

BILLING CODE 4910-13-P